DEPARTMENT OF COMMERCE

Foreign-Trade Zones Board

Order No. 1648

Approval of Manufacturing Authority, Foreign-Trade Zone 26, Kia Motors Manufacturing Georgia, Inc. (Motor Vehicles), West Point, Georgia

Pursuant to its authority under the Foreign-Trade Zones Act of June 18, 1934, as amended (19 U.S.C. 81a-81u) (the Act), the Foreign-Trade Zones Board (the Board) adopts the following Order:

Whereas, Georgia Foreign-Trade Zone, Inc., grantee of FTZ 26, has requested manufacturing authority on behalf of Kia Motors Manufacturing Georgia, Inc., within FTZ 26 Site 11, West Point, Georgia (FTZ Docket 72-2008, filed 12-16-2008);

Whereas, notice inviting public comment has been given in the Federal Register (73 FR 79048, 12-24-2008) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application for manufacturing authority under zone procedures within FTZ 26 on behalf of Kia Motors Manufacturing Georgia, Inc., as described in the application and Federal Register notice, is approved, subject to the FTZ Act and the Board's regulations, including Section 400.28.

Signed at Washington, DC, this 25th day of January 2010.

Ronald K. Lorentzen,
Deputy Assistant Secretary for Import Administration, Alternate Chairman, Foreign-Trade Zones Board.
Attest:
Andrew McGilvray,
Executive Secretary.

[FR Doc. 2010-2176 Filed 2-1-10; 8:45 am]

BILLING CODE 3510-DS-S